NATIONAL AERONAUTICS AND SPACE ADMINISTRATION

[Notice 05-080]

Notice of Prospective Patent License

AGENCY: National Aeronautics and Space Administration.

ACTION: Notice of Prospective Patent License.

SUMMARY: NASA hereby gives notice that Penske Racing South, Inc. of 136 Knob Hill Road, Mooresville, NC 28117-6847, has applied for a Partially Exclusive license to practice the inventions described and claimed in U.S. Patent No(s). 4,829,035, entitled “Reactivation Of A Tin Oxide-Containing Catalyst,” 4,855,274, entitled “Process For Making A Noble Metal On Tin Oxide Catalyst,” 4,912,082, entitled “Catalyst For Carbon Monoxide Oxidation,” 4,991,181, entitled “Catalyst For Carbon Monoxide Oxidation,” 5,585,083, entitled “Catalytic Process For Formaldehyde Oxidation,” and 6,132,694, entitled “Catalyst For Oxidation Of Volatile Organic Compounds,” all of which are assigned to the United States of America as represented by the Administrator of the National Aeronautics and Space Administration. Written objections to the prospective grant of a license should be sent to Langley Research Center.

DATES: Responses to this notice must be received by May 11, 2005.

FOR FURTHER INFORMATION CONTACT: Helen M. Galus, Patent Attorney, Langley Research Center, Mail Stop 141, Hampton, VA 23681-2199. Telephone 757-864-3227; Fax 757-864-9190.

Keith T. Sefton,
Deputy General Counsel (Administration and Management).

[FR Doc. 05-8337 Filed 4-25-05; 8:45 am]

BILLING CODE 7510-13-P